DEPARTMENT OF TRANSPORTATION

Federal Aviation Administration

14 CFR Part 39

[Docket No. 2003-NM-183-AD]

RIN 2120-AA64

Airworthiness Directives; Airbus Model A330-202, -203, -223, and -243 Airplanes, and A330-300 Series Airplanes

AGENCY: Federal Aviation Administration, DOT.

ACTION: Notice of proposed rulemaking (NPRM).

SUMMARY: This document proposes the adoption of a new airworthiness directive (AD) that is applicable to certain Airbus Model A330-202, -203, -223, and -243 airplanes, and A330-300 series airplanes. This proposal would require modification of the center box junction and upper sections of the center fuselage to reinforce the frame base junction, and related corrective action. This action is necessary to prevent fatigue cracking, which could result in reduced structural integrity of the fuselage. This action is intended to address the identified unsafe condition.

DATES: Comments must be received by April 12, 2004.

ADDRESSES: Submit comments in triplicate to the Federal Aviation Administration (FAA), Transport Airplane Directorate, ANM-114, Attention: Rules Docket No. 2003-NM-183-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-183-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-183-AD.” The postcard will be date stamped and returned to the commenter.

Availability of NPRMs

Any person may obtain a copy of this NPRM by submitting a request to the FAA, Transport Airplane Directorate, ANM-114, Attention: Rules Docket No. 2003-NM-183-AD, 1601 Lind Avenue, SW., Renton, Washington 98055-4056.

Discussion

The Direction Générale de l'Aviation Civile (DGAC), which is the airworthiness authority for France, notified the FAA that an unsafe condition may exist on certain Airbus Model A330-202, -203, -223, and -243 airplanes, and A330-300 series airplanes. The DGAC advises that, during fatigue testing, cracking initiated and propagated in the center box junction and upper section of the fuselage between frame (FR) 40.3 and FR 45 at stringers 26 through 29. Such cracking, if not corrected, could result in reduced structural integrity of the fuselage.

Explanation of Relevant Service Information

Airbus has issued Service Bulletin A330-53-3126, Revision 01, dated March 19, 2003, which describes procedures for modification of the center box junction and upper bent sections of the center fuselage, between FR 40.3 and FR 45 at stringers 26 through 29, on the left and right sides of the airplane, and related corrective action. This modification includes performing rotating probe inspections for cracking of certain fastener holes, drilling and reaming certain fastener holes (as a follow-on action for uncracked fastener holes), cold-working certain fastener holes, and replacing certain existing fasteners with improved fasteners. The service bulletin also specifies contacting Airbus for repair if any cracking is found during accomplishment of the modification. Accomplishment of the actions specified in the service bulletin is intended to adequately address the identified unsafe condition. The DGAC classified this service bulletin as mandatory and issued French airworthiness directive 2002-528(B), dated October 30, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that this AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Among This Proposed AD, French Airworthiness Directive and Service Bulletin

For Model A330-301, -322, -321, -341, and -342 airplanes, the French airworthiness directive and the service bulletin specify doing the modification of the center box junction and upper sections of the center fuselage before the accumulation of 13,500 flight cycles or 39,200 flight hours “since the first flight of the airplane, whichever is first.” For Model A330-202, -203, -223, -243, -323, and -343 airplanes, the modification is to be done before the accumulation of 11,400 flight cycles or 33,100 flight hours “since the first flight of the airplane, whichever is first.”

This proposed AD would require accomplishment of the modification at the following times: For Model A330-301, -322, -321, -341, and -342 airplanes, “Before the accumulation of 13,500 total flight cycles or 39,200 total flight hours since the date of issuance of the original Airworthiness Certificate or the date of issuance of the Export Certificate of Airworthiness, whichever is first.” For Model A330-202, -203, -223, -243, -323, and -343 airplanes, “Before the accumulation of 11,400 total flight cycles or 33,100 total flight hours since the date of issuance of the original Airworthiness Certificate or the date of issuance of the Export Certificate of Airworthiness, whichever is first.” These compliance times include a grace period of 6 months after the effective date of the AD. This decision is based on our determination that “since the first flight of the airplane” may be interpreted differently by different operators. We find that our proposed terminology is generally understood within the industry and records will always exist that establish these dates with certainty. In addition, we have determined that a 6-month grace period will ensure an acceptable level of safety and is an appropriate interval of time wherein the modification can be accomplished during scheduled maintenance intervals for the majority of affected operators.

The service bulletin specifies that operators may contact Airbus for disposition of certain repair conditions, but this proposed AD would require operators to repair those conditions per a method approved by either the FAA or the DGAC (or its delegated agent). In light of the type of repair that would be required to address the unsafe condition, and consistent with existing bilateral airworthiness agreements, we have determined that a repair approved by either the FAA or the DGAC would be acceptable for compliance with this proposed AD.

Cost Impact

The FAA estimates that 9 airplanes of U.S. registry would be affected by this proposed AD, that it would take about 67 work hours per airplane to do the proposed modification, and that the average labor rate is $65 per work hour. Required parts would cost about $1,420 per airplane. Based on these figures, the cost impact of the modification proposed by this AD on U.S. operators is estimated to be $51,975, or $5,775 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-183-AD.

Applicability: A330-202, -203, -223, and -243 airplanes, and A330-300 series airplanes; certificated in any category; on which Airbus Modification 49404 has not been done.

Compliance: Required as indicated, unless accomplished previously.

To prevent fatigue cracking, which could result in reduced structural integrity of the fuselage, accomplish the following:

Modification

(a) Modify the center box junction and upper bent sections of the center fuselage, between frame (FR) 40.3 and FR 45 at stringers 26 through 29, on the left and right sides of the airplane, by doing all the actions per the Accomplishment Instructions of Airbus Service Bulletin A330-53-3126, Revision 01, dated March 19, 2003. Do the modification at the times specified in paragraphs (a)(1) and (a)(2) of this AD.

(1) For Model A330-301, -322, -321, -341, and -342 airplanes: Do the modification at the later of the times specified in paragraphs (a)(1)(i) and (a)(1)(ii) of this AD.

(i) Before the accumulation of 13,500 total flight cycles or 39,200 total flight hours since the date of issuance of the original Airworthiness Certificate or the date of issuance of the Export Certificate of Airworthiness, whichever is first.

(ii) Within 6 months after the effective date of this AD.

(2) For Model A330-202, -203, -223, -243, -323, and -343 airplanes: Do the modification at the later of the times specified in paragraphs (a)(2)(i) and (a)(2)(ii) of this AD.

(i) Before the accumulation of 11,400 total flight cycles or 33,100 total flight hours since the date of issuance of the original Airworthiness Certificate or the date of issuance of the Export Certificate of Airworthiness, whichever is first.

(ii) Within 6 months after the effective date of this AD.

Previously Accomplished Actions

(b) Accomplishment of the modification per Airbus Service Bulletin A330-53-3126, dated October 18, 2002, is considered acceptable for compliance with the modification required by paragraph (a) of this AD.

Repair

(c) If any crack is found during accomplishment of the modification required by paragraph (a) of this AD, and the service bulletin recommends contacting Airbus for appropriate action: Before further flight, repair per a method approved by the Manager, International Branch, ANM-116, FAA, Transport Airplane Directorate; or the Direction Générale de l'Aviation Civile (or its delegated agent).

Alternative Methods of Compliance

(d) In accordance with 14 CFR 39.19, the Manager, International Branch, ANM-116, is authorized to approve alternative methods of compliance for this AD.

Note 1: The subject of this AD is addressed in French airworthiness directive 2002-528(B), dated October 30, 2002.

Issued in Renton, Washington, on March 2, 2004.
Ali Bahrami,
Acting Manager, Transport Airplane Directorate, Aircraft Certification Service.

[FR Doc. 04-5519 Filed 3-10-04; 8:45 am]

BILLING CODE 4910-13-P